DEPARTMENT OF AGRICULTURE

Rural Business Service

[Docket No. RBS-20-BUSINESS-0025]

Notice of Request for Revision of a Currently Approved Information Collection

AGENCY: Rural Business Service, USDA.

ACTION: Notice; comment requested.

SUMMARY: In accordance with the Paperwork Reduction Act of 1995, this notice announces the intention of the above-named agency to request Office of Management and Budget's (OMB) approval for a revision of a currently approved information collection in support of the Advanced Biofuel Payment Program.

DATES: Comments on this notice must be received by August 25, 2020.

FOR FURTHER INFORMATION CONTACT: Arlette Mussington, Rural Development Innovation Center—Regulations Management Division, USDA, 1400 Independence Avenue SW, Room 4227, South Building, Washington, DC 20250-1522. Telephone: (202)720-2825. Email arlette.mussington@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RBS is submitting to OMB for extension.

Comments

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to http://www.regulations.gov and, in the lower “Search Regulations and Federal Actions” box, select “RBS” from the agency drop-down menu, then click on “Submit.” In the Docket ID column, select RBS-20-BUSINESS-0025 to submit or view public comments and to view supporting and related materials available electronically. Information on using Regulations.gov, including instructions for accessing documents, submitting comments, and viewing the docket after the close of the comment period, is available through the site's “User Tips” link.

Title: Advanced Biofuel Payment Program.

OMB Number: OMB No. 0570-0063.

Expiration Date of Approval: December 31, 2020.

Type of Request: Revision of a currently approved information collection.

Abstract: The Advanced Biofuel Payment Program was authorized under section 9005 of Title IX of the Food, Conservation, and Energy Act of 2008 (2008 Farm Bill). It authorizes the Agency to enter into contracts to make payments to eligible entities to support and ensure an expanding production of advanced biofuels. Entities eligible to receive payments under the Program are producers of advanced biofuels that meet all of the requirements of the Program.

This revision reflects a 584 decrease in annual responses and a 507 decrease in burden hours. The reduction in the burden to the public reflects a full accounting of all Rural Development (RD) forms that must be provided by participating producers. The estimated burden includes accounting for the Assurance Agreement (RD 400-4) and the Certification for Contracts, Grants and Loans (RD 1940-Q). The total estimated costs to the public was decreased by $16,879 per year, from $66,096 to 49,217.

Estimate of Burden: Public reporting burden for this collection of information is estimated to average 0.89 hours per response.

Respondents: The respondents are the advanced biofuel producers and Agency staff who process applications and quarterly payment requests.

Estimated Number of Respondents: 206 advanced biofuel producers.

Estimated Number of Responses per Respondent: 1.

Estimate Number of Responses: 1,500.

Estimated Total Annual Burden on Respondents: 1,339 hours.

Copies of this information collection can be obtained from Arlette Mussington, Innovation Center—Regulations Management Division, at (202) 720-2825. Email: arlette.mussington@usda.gov.

All responses to this notice will be summarized and included in the request for OMB approval. All comments will become a matter of public record.

Mark Brodziski,
Acting Administrator, Rural Business-Cooperative Service.

[FR Doc. 2020-13804 Filed 6-25-20; 8:45 am]

BILLING CODE 3410-XV-P